COMMISSION ON CIVIL RIGHTS

Agenda and Notice of Public Meeting of the Colorado Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the Colorado Advisory Committee to the Commission will convene at 6 p.m. (MDT) on July 18, 2017 at the University of Denver, Bldg. 26, Sturm Hall (Building 26), Lindsey Auditorium (Room 281), 2000 E. Asbury Ave., Denver, CO 80208. The purpose of the briefing meeting is to hear testimony on the impact of the Blaine Amendment (Colorado's No Aid Clause) in Colorado.

DATES: Tuesday, July 18, 2017, from 6 p.m. to 8 p.m. MDT.

ADDRESSES: University of Denver, Sturm Hall, Lindsey Auditorium (Rm. 281), 2000 E. Asbury Ave., Denver, CO 80208.

FOR FURTHER INFORMATION CONTACT: Evelyn Bohor at ebohor@usccr.gov, or 303-866-1040.

SUPPLEMENTARY INFORMATION: The Colorado Advisory Committee will hear from individuals with expertise on Colorado's No Aid Clause. The Committee will examine the history of the Blaine Amendment, those in favor of continued use and those in favor of modifying or eliminating use of the Blaine Amendment in Colorado. Through testimony, the Committee will receive information on the effects of the Blaine Amendment on the civil rights of a wide range of families in Colorado's schools.

The meeting is free and open to the public. If other persons who plan to attend the meeting require accommodations, please contact Evelyn Bohor at ebohor@usccr.gov at the Rocky Mountain Regional Office at least ten (10) working days before the scheduled date of the meeting.

Time will be set aside at the end of the briefing so that members of the public may address the Committee after the formal presentations have been completed. Persons interested in the issue are also invited to submit written comments; the comments must be received in the regional office by Friday, August 18, 2017. Written comments may be mailed to the Rocky Mountain Regional Office, U.S. Commission on Civil Rights, 1961 Stout Street, Suite 13-201, Denver, CO 80294, faxed to (303) 866-1050, or emailed to Evelyn Bohor at ebohor@usccr.gov. Persons who desire additional information may contact the Rocky Mountain Regional Office at 303-866-1040.

Records and documents discussed during the meeting will be available for public viewing as they become available at https://database.faca.gov/committee/meetings.aspx?cid=238 and clicking on the “Meeting Details” and “Documents” links. Records generated from this meeting may also be inspected and reproduced at the Rocky Mountain Regional Office, as they become available, both before and after the meeting. Persons interested in the work of this advisory committee are advised to go to the Commission's Web site, www.usccr.gov, or to contact the Rocky Mountain Regional Office at the above phone number, email or street address.

Tentative Agenda

Tuesday, July 18, 2017

I. Welcome and Introductions

II. History and Background Information on Blaine Amendment: Colorado's No Aid Clause

III. Panel One: For Blaine

IV. Panel Two: Against Blaine

V. Open Session

VI. Adjournment

Dated: June 7, 2017.
David Mussatt,
Supervisory Chief, Regional Programs Unit.

[FR Doc. 2017-12076 Filed 6-12-17; 8:45 am]

BILLING CODE P